DEPARTMENT OF DEFENSE

Department of the Army

[Docket ID USA-2021-HQ-0023]

Submission for OMB Review; Comment Request

AGENCY: Department of the Army, Department of Defense (DoD).

ACTION: 30-Day information collection notice.

SUMMARY: The Department of Defense has submitted to OMB for clearance the following proposal for collection of information under the provisions of the Paperwork Reduction Act.

DATES: Consideration will be given to all comments received by March 14, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION: Title; Associated Form; and OMB Number: Project Manager Army Data Analytics Platforms Climate Survey; OMB Control Number 0702-RDAP.

Type of Request: New.

Number of Respondents: 184.

Responses per Respondent: 1.

Annual Responses: 184.

Average Burden per Response: 30 minutes.

Annual Burden Hours: 92.

Needs and Uses: The Project Manager Army Data Analytics Platforms (PM ARDAP) Climate Survey is seeking feedback from its civilian, military, and contractor personnel to assess how they feel about the organization and their work environment. The responses will enable PM ARDAP leadership to assess and determine where changes are required. Though the survey is intended to reach all personnel, this proposed collection request only covers public respondents (contractor personnel) as required by the Paperwork Reduction Act. PM ARDAP will distribute this Climate Survey using the MilSuite survey feature, which enables PM ARDAP to create a custom survey for organization-wide distribution with advanced survey statistics to capture, review, and share the responses. Respondents will access and provide their responses to the collection instrument online. They will receive a link that takes them directly to the PM ARDAP Climate Survey in MilSuite. The PM ARDAP Operations Team will review the survey responses and provide data and subsequent analysis to PM ARDAP leadership. The results will enable PM ARDAP leadership to communicate areas for improvement, actions they plan to take or have taken, and if the changes address the areas in need of improvement with its personnel. Additionally, since the survey is annual, PM ARDAP will be able to review and analyze data year to year to identify trends.

Affected Public: Individuals or households.

Frequency: On occasion.

Respondent's Obligation: Annually.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: February 7, 2022.
Aaron T. Siegel,
Alternate OSD Federal Register Liaison Officer, Department of Defense.

[FR Doc. 2022-02990 Filed 2-10-22; 8:45 am]

BILLING CODE 5001-06-P